DEPARTMENT OF DEFENSE

Department of the Navy

Meetings of the Naval Research Advisory Committee

AGENCY: Department of the Navy, DoD.

ACTION: Notice of closed meetings.

SUMMARY: The Naval Research Advisory Committee (NRAC) will meet to hold briefs of classified information. All sessions of the meetings will be devoted to briefings, discussions and technical examination of information related to the assessment of the role of Naval Forces in the Global War on Terror.

DATES: The meetings will be held on Tuesday, December 6, 2005, from 12:30 p.m. to 5:30 p.m., and Wednesday, December 7, 2005, from 8:30 a.m. to 5:30 p.m.

ADDRESSES: The meetings will be held at the Office of Naval Research, One Liberty Center, 875 North Randolph Street, Room 1203, Arlington, VA 22203.

FOR FURTHER INFORMATION CONTACT: Dr. Sujata Millick, Program Director, Naval Research Advisory Committee, 875 North Randolph Street, Arlington, VA 22203, 703-696-6769.

SUPPLEMENTARY INFORMATION: This notice is provided in accordance with the provisions of the Federal Advisory Committee Act (5 U.S.C. App. 2). All sessions of the meetings will be devoted to executive sessions that will include discussions and technical examination of information related to the role of Naval Forces in the Global War on Terror. These briefings and discussions will contain classified information that is specifically authorized under criteria established by Executive Order to be kept secret in the interest of national defense and are in fact properly classified pursuant to such Executive Order. Classified and non-classified matters to be discussed are so inextricably intertwined as to preclude opening any portions of the meetings. In accordance with 5 U.S.C. App. 2, section 10(d), the Secretary of the Navy has determined in writing that the public interest requires that all sessions of the meetings be closed to the public because they will be concerned with matters listed in 5 U.S.C. section 552b(c)(1) and (4).

Due to unavoidable delay in administrative processing, the normal 15 days notice could not be provided.

Eric McDonald,
Lieutenant Commander, Judge Advocate General's Corps, U.S. Navy, Federal Register Liaison Officer.

[FR Doc. E5-7291 Filed 12-13-05; 8:45 am]

BILLING CODE 3810-FF-P